DEPARTMENT OF THE INTERIOR

Bureau of Land Management

[ES-960-1430-ET; MIES-50199]

Public Land Order No. 7545; Revocation of Executive Order Dated May 24, 1847; Michigan

AGENCY: Bureau of Land Management, Interior.

ACTION: Public land order.

SUMMARY: This order revokes in its entirety, an Executive Order which reserved 87.1 acres of public land for use by the United States Coast Guard for lighthouse purposes. The land is no longer needed for lighthouse purposes. This action will open 0.47 acres to surface entry. The remaining land has been conveyed out of Federal ownership.

EFFECTIVE DATE: December 12, 2002.

FOR FURTHER INFORMATION CONTACT: Ed Ruda, BLM Eastern States Office, 7450 Boston Boulevard, Springfield, Virginia 22153, 703-440-1663.

SUPPLEMENTARY INFORMATION: This is a record clearing action only for the land that is no longer in Federal ownership.

Order

By virtue of the authority vested in the Secretary of the Interior by section 204 of the Federal Land Policy and Management Act of 1976, 43 U.S.C. 1714 (1994), it is ordered as follows:

1. The Executive Order dated May 24, 1847, which reserved public land for lighthouse purposes, is hereby revoked in its entirety:

Michigan Meridian

T. 18 N., R. 14 E.,

Sec. 2, lots 1 and 2.

The area described contains 87.1 acres in Huron County.

2. At 10 a.m. on December 12, 2002, the land described below will be opened to the operation of the public land laws generally, subject to valid existing rights, the provision of existing withdrawals, other segregations of record, and the requirements of applicable law. All valid applications received at or prior to 10 a.m. on December 12, 2002, shall be considered as simultaneously filed at that time. Those received thereafter shall be considered in the order of filing.

Michigan Meridian

T. 18 N., R. 14 E.,

Pointe Aux Barques Lighthouse Reservation, located in lot 2, sec. 2, being more particularly described as:

Beginning at the ¼ section corner of secs. 2 and 11, T. 18 N., R. 14 E.,

Thence,

N. 34°11′ E., 29.39 chs., to Angle Point No. 1, the place of beginning,

N. 50°10′ E., 0.50 chs., to a point on line,

N. 50°10′ E., 4.21 chs., to Angle Point No. 2,

S. 89°31′ E., 1.14 chs., to a point on line,

S. 89°31′ E., 0.46 chs., to Angle Point No. 3 on the present shoreline of Lake Huron,

Thence, with the meanders of Lake Huron,

N. 35°48′ W., 0.62 chs.,

N. 3°51′ E., 1.24 chs.,

N. 54°52′ W., 1.59 chs., to Angle Point No. 4,

S. 0°29′ W., 0.52 chs., to a point on line,

S. 0°29′ W., 1.63 chs., to Angle point No. 5,

S. 50°11′ W., 4.54 chs., to a point on line,

S. 50°11′ W., 0.50 chs., to Angle Point No. 6,

S. 39°50′ E., 0.38 chs., to Angle Point No. 1, the place of beginning.

The area described contains 0.47 acres in Huron County.

Dated: October 24, 2002.
Rebecca W. Watson,
Assistant Secretary—Land and Minerals Management.

[FR Doc. 02-28703 Filed 11-8-02; 8:45 am]

BILLING CODE 4310-GJ-P